ENVIRONMENTAL PROTECTION AGENCY

[ER-FRL-9004-3]

Environmental Impacts Statements; Notice of Availability

Responsible Agency: Office of Federal Activities, General Information (202) 564-7146 or http://www.epa.gov/compliance/nepa/.

Weekly receipt of Environmental Impact Statements

Filed 07/23/2012 Through 07/27/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION:

Starting October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp

EIS No. 20120250, Draft EIS, FERC, CA,Middle Fork American River Hydroelectric Project, (FERC Project No. 2079-069) Relicensing, Placer and El Dorado Counties, CA, Comment Period Ends: 10/02/2012, Contact: Mary O'Driscoll >1-866-208-3372.

EIS No. 20120251, Draft Supplement, NOAA, WA, PROGRAMMATIC—Lower Duwamish River Natural Resource Damage Assessment (LDR/NRDA) Restoration Plan, Additional Detailed Information and Minor Changes, Implementation, King County, WA, Comment Period Ends: 10/10/2012, Contact: Rebecca Hoff 206-526-6276.

EIS No. 20120252, Final EIS, USFS, CA, Johnny O'Neil Late Successional Reserve Habitat Restoration and Fuel Reduction Project, Proposal to Retain and Promote the Development of Late Successional Habitat and Reduce the Risk of Large, High Severity Wildfire, Happy Camp and Oak Knoll Ranger District, Klamath National Forest, Siskiyou County, CA, Review Period Ends: 09/04/2012, Contact: Timothy Burnett 530-493-1767.

EIS No. 20120253, Draft EIS, USACE, CA, Eagle Rock Aggregate Terminal Project, Determining to Issue Permits for the Authorization of Wharf Improvements and Related Dredging Activities in Navigable Waters of the U.S., Port of Long Beach, Los Angeles County, CA, Comment Period Ends: 09/17/2012, Contact: John Markham 805-585-2150.

EIS No. 20120254, Final EIS, BLM, NV, Clark, Lincoln, and White Pine Counties Groundwater Development Project, Construction and Operation of Pipeline System and Associated Infrastructure, Right-Of-Way Application, Clark, Lincoln, and White Pine Counties, NV, Review Period Ends: 10/01/2012, Contact: Penny Woods 775-861-6466.

EIS No. 20120255, Revised Draft EIS, USDA, WY, Shoshone Land Management Plan Revision, Replacing the existing 1986 Plan with a New Plan, Implementation, Shoshone National Forest, Park, Fremont, Sublette, Teton, and Hot Springs Counties, WY, Comment Period Ends: 11/01/2012, Contact: Carrie Christman 307-578-5118.

EIS No. 20120256, Final EIS, FHWA, NY, Tappan Zee Hudson River Crossing Project, To Provide an Improved Hudson River Crossing between Rockland and Westchester Counties, Funding, USACE Section 10 and 404 Permits, Rockland and Westchester Counties, NY, Review Period Ends: 09/04/2012, Contact: Jonathan D. McDade 518-431-4127.

Dated: July 31, 2012.
Cliff Rader,
Director, NEPA Compliance Division, Office of Federal Activities.

[FR Doc. 2012-19070 Filed 8-2-12; 8:45 am]

BILLING CODE 6560-50-P